ENVIRONMENTAL PROTECTION AGENCY

[ER-FRL-6654-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-CGD-G39040-LA Rating EC2, Gulf Landing Deepwater Port License Application for Construction of a Deepwater Port and Associated Anchorages in the Gulf of Mexico, South of Cameron, LA.

Summary: EPA expressed environmental concerns with the proposed action and asked for additional information regarding air quality, cumulative impacts and mitigation be included in the Final EIS.

ERP No. D-DOE-K08029-00 Rating EC2, Imperial-Mexicali 230-kV Transmission Lines, Construct a Double-Circuit 230-kV Transmission Line, Presidential Permit and Right-of-Way Grants, Imperial Valley Substation to Calexico at the U.S.-Mexico Border, Imperial County, CA and U.S.-Mexico Border.

Summary: EPA expressed concerns regarding air quality impacts, particularly ozone formation, in Imperial County from the related Mexicali power plants; and cumulative impacts to water quality.

ERP No. D-IBR-K39085-CA Rating EC2, San Joaquin River Exchange Contractors Water Authority—2005 to 2014, Water Transfer Program, Stanislaus, San Joaquin, Merced, Madera, Fresno, San Benito, Santa Clara, Kern, and Kings Counties, CA.

Summary: EPA expressed environmental concerns related to impacts to water quality and agricultural drainage, irrigated lands conditional waivers and restoration issues.

ERP No. D-NPS-D65030-VA Rating LO, Petersburg National Battlefield General Management Plan, Implementation, Petersburg, VA.

Summary: EPA expressed lack of objections with the proposed action.

ERP No. DS-BLM-K67050-NV Rating EC2, Pipeline/South Pipeline Pit Expansion Project, Updated Information on Modifying the Extending Plan of Operations (Plan), Gold Acres Mining District, Launder County, NV.

Summary: EPA expressed environmental concerns regarding potential impacts to pit lake water quality, wildlife, heap leach pad stability in the earth fissure-prone area, and air quality; and uncertainties regarding feasible mitigation measures, reclamation bonding, and the long-term contingency fund. EPA requested additional information regarding pit lake water quality, ecological risk assessment, air quality modeling, hazardous air pollutants, mitigation measures and the long-term contingency fund.

Final EISs

ERP No. F-AFS-D65029-PA, Spring Creek Project Area (SCPA), To Achieve and Maintain Desired Conditions, Allegheny National Forest, Marienville Ranger District, Elk and Forest Counties, PA.

Summary: The FEIS has adequately addressed EPA's concerns.

ERP No. F-AFS-L65444-OR, Eyerly Fire Salvage Project, Burned and Damaged Trees Salvage, Reforestation and Fuels Treatment, Implementation, Deschutes National Forest, Sisters Ranger District, Jefferson County, OR.

Summary: No formal comment letter was sent to the preparing agency.

ERP No. F-BLM-J02041-WY, Desolation Flats Natural Gas Field Development Project, Drilling Additional Development Wells, Carbon and Sweetwater Counties, WY.

Summary: No formal comment letter was sent to the preparing agency.

ERP No. F-FAA-F51046-MN, Flying Cloud Airport Expansion, Extensions of the Runway 10R/28L and 10L/28R, Long-Term Comprehensive Development, In the City of Eden Prairie, MN.

Summary: EPA has no objection to the proposed action provided mitigation measures are included in the Record of Decision.

ERP No. F-FRC-L05231-AK, Glacier Bay National Park and Preserve, Falls Creek Hydroelectric Project (FERC. NO. 11659) and Land Exchange Project, Issuance of License and Land Exchange, Kahtaheena River (Falls Creek) near Gustavus in Southeastern, AK.

Summary: No formal comment letter was sent to the preparing agency.

ERP No. FS-AFS-L39057-OR, Rimrock Ecosystem Restoration Projects, New Information on the Commercial and Non-commercial Thinning Treatments in the C3 Management Area, Umatilla National Forest, Heppner Ranger District, Grant, Morrow and Wheeler Counties, OR.

Summary: No formal comment letter was sent to the preparing agency.

Dated: August 17, 2004.
Robert W. Hargrove,
Director, NEPA Compliance Division, Office of Federal Activities.

[FR Doc. 04-19147 Filed 8-19-04; 8:45 am]

BILLING CODE 6560-50-P